DEPARTMENT OF DEFENSE

Department of the Army

Public Scoping for Environmental Impact Statement—Real Estate Transaction and Related Utilities Infrastructure Upgrade at U.S. Army Garrison—West Point and Vicinity

AGENCY: Department of the Army, Department of Defense (DoD).

ACTION: Notice of Intent (NOI).

SUMMARY: Pursuant to the National Environmental Policy Act of 1969 (NEPA), as implemented by Council on Environmental Quality regulations, the Department of the Army announces its intent to prepare an environmental impact statement (EIS) to analyze a real estate transaction and a related utilities infrastructure upgrade. The real estate transaction would alter, where necessary, an existing transmission line easement at West Point, NY, and would grant to Orange and Rockland Utilities (O&R) a new 150-foot-wide transmission line easement at West Point. These measures would allow O&R to upgrade its existing 34.5-kilovolt (kV) electrical transmission line and associated infrastructure between its Woodbury Transition Station (in the Town of Woodbury, NY), West Point, NY, and the neighboring Village of Highland Falls, NY. The EIS will evaluate the environmental impact of the Proposed Action, to include its impact on adjacent properties.

DATES: Comments must be received by August 29, 2022.

ADDRESSES: Please send any written comments or questions to Mr. Christopher Pray via email (christopher.c.pray.civ@army.mil) or via regular mail: U.S. Army Garrison—West Point NEPA Coordinator (Attn: AMIM-MLP-E), Building 667A, Ruger Road, West Point, NY 10996.

FOR FURTHER INFORMATION CONTACT: Mr. Christopher Pray at the above addresses or at phone number (845) 938-7122.

SUPPLEMENTARY INFORMATION: The purpose of the Proposed Action is to allow O&R to expand transmission capacity and ensure system redundancy. The Proposed Action is needed because West Point's electric demand is nearing total system capacity. There is no backup in case of emergency and/or planned outages. The current 34.5kV system consists of two 19-megawatt (MW) circuits (38MW total). No reserve capacity exists in either circuit, resulting in a lack of redundant capabilities for a significant number of hours each year. Because the neighboring communities of Highland Falls and Fort Montgomery both receive their electricity from the same 34.5kV system that supplies West Point, these municipalities would also benefit from having a fully redundant electrical system. The Proposed Action would increase overall energy resiliency. Implementing the Proposed Action would allow U.S. Army Garrison—West Point (USAG—West Point) to continue to improve and modernize the educational facilities and infrastructure of the U.S. Military Academy as part of USAG—West Point's larger master planning efforts.

The Proposed Action includes the following steps:

• USAG—West Point would enter into a real estate transaction with O&R to alter, where necessary, the alignment of the existing transmission line easement along approximately eight miles of West Point property and grant a new, approximately one-mile-long, 150-foot-wide easement on West Point property to connect the upgraded transmission line to a new Wilson Gate Collocated Substation at West Point.

• O&R would construct two temporary, overhead (OH), 34.5kV transmission lines where necessary to maintain service. O&R would use existing transmission lines to the greatest extent possible.

• O&R would install a mobile substation at the O&R Dean Substation on Mine Torne Road at West Point.

• O&R would decommission the existing 34.5kV transmission line to West Point, Highland Falls, and Fort Montgomery.

• O&R would construct an upgraded 138kV transmission line, an upgraded O&R Dean Substation, a new three-way switching station along the transmission line easement outside the O&R Dean Substation, an upgraded O&R Harriman Substation (in the Town of Woodbury, NY), and an upgraded USAG—West Point Delafield Substation. USAG—West Point and O&R would then construct a new, co-owned, Wilson Gate Collocated Substation at West Point.

• O&R would decommission the temporary, OH, 34.5kV transmission line, the O&R Highland Falls Substation, and the existing USAG—West Point Wilson Gate Substation.

The transmission line upgrade would require additional real estate transactions between O&R and the State of New York and between O&R and private landowners. Such transactions are necessary to alter the alignment of—and to build on—those portions of the existing transmission line easement not located on West Point property.

The new Wilson Gate Collocated Substation would be built near the existing USAG—West Point Wilson Gate Substation. The new Wilson Gate Collocated Substation would be divided into two sections, one serving West Point and the other serving the surrounding communities. Upon completion of the project, the existing USAG—West Point Wilson Gate Substation would be decommissioned but maintained for switching purposes.

The EIS will analyze at least two transmission line route alternatives and a No-Action Alternative. The route alternatives would alter the alignment of the existing easement where necessary. The Northern Route to Wilson Gate Collocated Substation Alternative would grant an additional easement to O&R from the vicinity of the USAG—West Point Delafield Substation to the new Wilson Gate Collocated Substation. The Southern Route to Wilson Gate Collocated Substation Alternative would grant an additional easement to O&R from where the transmission line would split north of the intersection of Stony Lonesome Road and Route 9W, to the new Wilson Gate Collocated Substation.

The Proposed Action is expected to impact multiple resources, including wildlife, vegetation, threatened and endangered species, water resources (including state and federally regulated wetlands, surface waters, and floodplains), land use (including the Hudson River Coastal Zone), cultural resources, state park lands, the Hudson River view shed, topography, and soils. Construction activities would create noise and would impact air quality and traffic. Because of the size of the affected area, the project could have significant environmental impacts. The particular resources that would experience significant impacts are unknown at this time.

Consultation with federal and state agencies is required and will include:

• Section 7 consultation under the Endangered Species Act;

• New York State endangered species review;

• Section 106 consultation under the National Historic Preservation Act; and

• preparation of a coastal zone consistency determination.

O&R will need to obtain a number of federal, state, and local permits and approvals, including an Article VII Certificate of Environmental Compatibility and Public Need from the New York State Public Service Commission.

USAG—West Point developed a tentative schedule for the EIS. Two public meetings will occur approximately 20 days after Federal Register publication of this NOI. A Draft EIS is expected to be released for public review in late spring 2023, with public meetings to follow within approximately 20 days. The Final EIS will take into consideration all timely comments regarding the Draft EIS and is projected to be released in winter 2023-24. A Record of Decision is anticipated in late spring 2024.

Native American Tribes, government agencies, organizations, and individuals are invited to participate in the scoping process for this EIS by attending public meetings and/or by submitting written comments. USAG—West Point requests potential alternatives, information, and analyses relevant to the Proposed Action.

Due to the COVID-19 pandemic and the need to maintain social distancing, all public meeting materials will be provided online and all public meetings will convene by phone. Public meeting materials can be accessed at: https://home.army.mil/westpoint/index.php/about/environmental-management-division. Public meeting dates, times, and access numbers will be listed on the above website and will be published in local newspapers (e.g., The Times Herald Record, News of the Highlands, The Pointer View, and The Cornwall Local). If you cannot access the materials online, please contact Mr. Christopher Pray at phone number (845) 938-7122, via email (christopher.c.pray.civ@army.mil), or via regular mail: US Army Garrison—West Point NEPA Coordinator (Attn: AMIM-MLP-E), Building 667A, Ruger Road, West Point, NY 10996. If you send a request for public meeting materials via regular mail, your request must be postmarked no later than August 1, 2022. Written comments must be received within 45 days of the NOI's publication in the Federal Register and can be sent to the above addresses.

James W. Satterwhite, Jr.,
Army Federal Register Liaison Officer.

[FR Doc. 2022-15146 Filed 7-14-22; 8:45 am]

BILLING CODE 3711-02-P